DEPARTMENT OF THE INTERIOR

Office of Surface Mining Reclamation and Enforcement

30 CFR Part 938

[PA-150-FOR OSM-2008-0002]

Pennsylvania Regulatory Program

AGENCY: Office of Surface Mining Reclamation and Enforcement.

ACTION: Proposed rule; withdrawal.

SUMMARY: We, the Office of Surface Mining (OSM), are announcing the withdrawal of a proposed rule pertaining to a request to delete a required amendment related to the Pennsylvania regulatory program (the Pennsylvania program) under the Surface Mining Control and Reclamation Act of 1977 (SMCRA or the Act). Pennsylvania requested that a required amendment pertaining to regulatory exemptions for coal extraction incidental to the extraction of other minerals be removed.

DATES: The proposed rule published April 1, 2008, at 73 FR 17268, is withdrawn February 23, 2009.

FOR FURTHER INFORMATION CONTACT: George Rieger, Chief, Pittsburgh Field Division, Office of Surface Mining Reclamation and Enforcement, 415 Market Street, Room 304, Harrisburg, PA 17101; Telephone: 717-782-4036, e-mail: grieger@osmre.gov.

SUPPLEMENTARY INFORMATION:

I. Background on the Pennsylvania Program

II. Submission of the Request

I. Background on the Pennsylvania Program

Section 503(a) of the Surface Mining Control and Reclamation Act of 1977 (SMCRA or the Act), 30 U.S.C. 1253(a), permits a State to assume primacy for the regulation of surface coal mining and reclamation operations on non-Federal and non-Indian lands within its borders by demonstrating that its program includes, among other things, “a State law which provides for the regulation of surface coal mining and reclamation operations in accordance with the requirements of the Act * * *; and rules and regulations consistent with regulations issued by the Secretary pursuant to the Act.” See 30 U.S.C. 1253(a)(1) and (7). On the basis of these criteria, the Secretary of the Interior conditionally approved the Pennsylvania regulatory program on July 30, 1982. You can find background information on the Pennsylvania program, including the Secretary's findings, the disposition of comments, and conditions of approval in the July 30, 1982 Federal Register (47 FR 33050). You can also find later actions concerning Pennsylvania's program and program amendments at 30 CFR 938.11, 938.12, 938.13, 938.15, and 938.16.

II. Submission of the Request

By letter dated December 18, 2007, Pennsylvania sent us a request to remove a required amendment codified at 30 CFR 938.16(uuu). This required amendment pertains to regulatory exemptions for coal extraction incidental to the extraction of other minerals (Administrative Record Number PA-892.00) under SMCRA. Pennsylvania submitted the request because it maintained that its program was no less effective than the Federal requirements, and therefore, no amendment was necessary.

We announced receipt of the request in the April 1, 2008 Federal Register (73 FR 17268-17270). In the same document, we opened the public comment period and provided an opportunity for a public hearing or meeting on the request (Administrative Record Number PA-892.03). We did not hold a public hearing or meeting because no one requested one. The public comment period ended on May 1, 2008. We received comments from one organization, Citizens for Pennsylvania's Future (PennFuture).

In a letter dated December 11, 2008, Pennsylvania notified us that it was withdrawing the request at this time so that they can perform additional analysis on the issue and resubmit the amendment at a later date. The required amendment codified at 30 CFR 938.16(uuu) remains effective.

List of Subjects in 30 CFR Part 948

Intergovernmental relations, Surface mining, Underground mine.

Dated: January 8, 2009.
Thomas D. Shope,
Regional Director, Appalachian Region.

[FR Doc. E9-3806 Filed 2-20-09; 8:45 am]

BILLING CODE 4310-05-P